DEPARTMENT OF ENERGY

Energy Information Administration

Agency Information Collection Activities: Proposed Collection; Comment Request

AGENCY: Energy Information Administration (EIA), Department of Energy (DOE).

ACTION: Agency information collection activities: Proposed collection; Comment request.

SUMMARY: The EIA is soliciting comments on the proposed reinstatement of the Form EIA-846(A)(B)(C), “Manufacturing Energy Consumption Survey.”

DATES: Comments must be filed by July 31, 2006. If you anticipate difficulty in submitting comments within that period, contact the person listed below as soon as possible.

ADDRESSES: Send comments to Tom Lorenz. To ensure receipt of the comments by the due date, submission by FAX (202-586-0018) or e-mail (Thomas.Lorenz@eia.doe.gov) is recommended. The mailing address is Office of Energy Markets and End Use, Energy Consumption Division, EI-63, Forrestal Building, U.S. Department of Energy, Washington, DC 20585. Alternatively, Mr. Lorenz may be contacted by telephone at 202-586-3442.

FOR FURTHER INFORMATION CONTACT: Requests for additional information or copies of Internet or paper forms and instructions should be directed to Tom Lorenz at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The Manufacturing Energy Consumption Survey (MECS) is a self-administered sample survey designed to collect energy consumption and expenditures data from establishments in the manufacturing sector; i.e., North American Industry Classification System (NAICS) codes 31-33. There are three MECS data collection forms and their use depends on an establishment's primary business activity classification under NAICS. Form EIA-846A collects information for all the manufacturing industries contained within NAICS 31-33 except for NAICS 321, 322, 324, 325, and 331111. Form EIA-846B is for establishments operating primarily in the petroleum refining industry (NAICS 324110). Form EIA-846C is for establishments in NAICS 321, 322, 324 (except 324110), 325 and 331111.

The 2006 MECS will collect information during 2007 for business activities in calendar year 2006. For the 2006 MECS, EIA proposes to collect the following data from each MECS establishment: (1) For each energy source consumed—consumption (total, fuel and nonfuel uses) and the expenditures for each energy source, energy storage (as applicable), and energy produced onsite; (2) energy end uses; (3) fuel-switching capabilities; (4) general energy-saving technologies; (5) energy management activities; and (6) square footage and number of buildings in the establishment.

The MECS has been conducted six times previously, covering the years 1985, 1988, 1991, 1994, 1998, and 2002. In all six survey years, the MECS has collected baseline data on manufacturers' energy consumption and expenditures. The MECS collected data on fuel-switching capabilities in all years except 1998. In the 1991, 1994, 1998, and 2002 surveys, the MECS also collected data on end-uses, energy management technologies, building square footage, and energy-saving technologies.

The MECS information is the basis for data and analytic products that can be found at http://www.eia.doe.gov/emeu/mecs. Also on this website are past publications, articles, and a special analytic series, “Industry Analysis Briefs.” The 2006 MECS will also be used to benchmark EIA's industry forecasting model and update changes in the energy intensity and greenhouse gases data series.

The proposed 2006 MECS uses experience gained from the administration and processing of the six previous surveys and past consultations with respondents, trade association representatives, and data users.

II. Current Actions

EIA proposes making several changes from the 2002 MECS for use in the 2006 MECS. The first substantial change for the 2006 MECS is collecting the data primarily through the Internet instead of though a paper and pencil method. This change, in part, has occurred because of the Government Paperwork Elimination Act (GPEA) which requires EIA, as of October 21, 2003, to allow establishments the option to submit and maintain information electronically. EIA anticipates that this electronic method will save time and money in the submission and processing of the data. There will still be an option for those manufacturing establishments who do not have Internet access to complete the 2006 survey using the standard paper method.

The persisting energy prices volatility since the 2002 survey has prompted EIA to not only continue to collect fuel-switching data for the 2006 survey, but to expand it with a few more questions being asked. EIA plans to ask about the limitations that would make fuel switching impractical. This reporting would help EIA better understand what factors, if any, play a role in the capability of a manufacturing establishment to fuel-switch. EIA is also planning to add a question to obtain data about what price differences among fuels would likely trigger a switch.

EIA is working with the Office of Energy Efficiency and Renewable Energy (EERE) at DOE to reform the questions in the Energy Management and General Technologies sections on the MECS. Pending funding from EERE the questions plan to target energy efficiency activities at the manufacturing establishment. The data collected would help EIA and DOE to develop manufacturing energy efficiency improvements. These will be “Yes”/ “No” questions that should not greatly increase response burden.

The Environmental Protection Agency (EPA) has requested to include questions on the MECS relating to manufacturing water consumption. Pending funding from EPA and EIA and OMB approval, these questions plan to target general water consumption at manufacturing establishments. These questions, which focus on water use, are not to be confused with the Industrial Hot Water section that is currently collected by the MECS, which focuses on the energy content of the water.

The increased response burden for the added energy efficiency activities and fuel switching questions will be offset by the planned removal of the onsite electricity generation ownership questions from the 2002 survey. Also, EIA plans to eliminate all of the steam and industrial hot water questions from the 2002 survey except for purchases, generation from renewable energy sources, and sales and transfers offsite, which will still be collected for the 2006 survey. EIA believes that collecting data through the Internet will lessen the response burden because it will be easier to use and faster to complete the questionnaire than the traditional paper method.

Besides the changes already discussed, the content of the 2006 MECS will be largely unchanged from the 2002 survey. Most respondents will submit their data electronically in a question-answer format as opposed to the spreadsheet format used in the past. The MECS information products will continue to present industry-by-Census Region level data as well as national data.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average eight hours per response for Form EIA-846A, seven hours per response for Form EIA-846B, and nine hours per response for Form EIA-846C. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, May 24, 2006.
Jay H. Casselberry,
Agency Clearance Officer, Energy Information Administration.

[FR Doc. E6-8496 Filed 5-31-06; 8:45 am]

BILLING CODE 6450-01-P